SMALL BUSINESS ADMINISTRATION

[Disaster Declaration #15151 and #15152]

MISSOURI Disaster Number MO-00081

AGENCY: U.S. Small Business Administration.

ACTION: Amendment 2.

SUMMARY: This is an amendment of the Presidential declaration of a major disaster for the State of MISSOURI (FEMA-4317-DR) dated 06/02/2017.

Incident: Severe Storms, Tornadoes, Straight-line Winds, and Flooding.

Incident Period: 04/28/2017 through 05/11/2017.

DATES: Issued on 07/17/2017.

Physical Loan Application Deadline Date: 08/14/2017.

EIDL Loan Application Deadline Date: 03/02/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the State of MISSOURI, dated 06/02/2017 is hereby amended to extend the deadline for filing applications for physical damages as a result of this disaster to 08/14/2017.

All other information in the original declaration remains unchanged.

(Catalog of Federal Domestic Assistance Numbers 59002 and 59008)

James E. Rivera,
Associate Administrator for Disaster Assistance.

[FR Doc. 2017-15612 Filed 7-25-17; 8:45 am]

BILLING CODE 8025-01-P